POSTAL SERVICE

Sunshine Act Meeting

TIMES AND DATES: 1 p.m., Monday, November 13, 2000; 8:30 a.m., Tuesday, November 14, 2000; 10 a.m., Tuesday, November 14, 2000.

PLACE: Washington, DC, at U.S. Postal Service Headquarters, 475 L'Enfant Plaza, SW., in the Benjamin Franklin Room.

STATUS: November 13 (Closed); November 14—8:30 a.m. (Open); 10 a.m. (Closed).

MATTERS TO BE CONSIDERED:

Monday, November 13—1 p.m. (Closed)

1. Financial Performance.

2. Fiscal Year 2001 Integrated Financial Plan.

3. Enhanced Security Capability.

4. International Mail Rates.

5. Quarterly eCommerce Update.

6. Personal Matters.

7. Compensation Issues.

8. Postal Rate Commission Opinion and Recommended Decision in Docket No. R2000-1, Omnibus Rate case.

Tuesday, November 14—8:30 a.m. (Open)

1. Minutes of the Previous Meetings, September 22, and October 2-3, 2000.

2. Remarks of the Postmaster General/Chief Executive Officer.

3. Quarterly Report on Service Performance.

4. Fiscal Year 2001 Operating Budget.

5. Capital Investment Plan.

6. Fiscal Year 2001 Financing Plan.

7. Tentative Agenda for the December 4-5, 2000, meeting in Washington, DC.

Tuesday, November 14—10 a.m. (Closed)

1. Continuation of Monday's closed agenda.

CONTACT PERSON FOR MORE INFORMATION: David G. Hunter, Secretary of the Board, U.S. Postal Service, 475 L'Enfant Plaza, SW., Washington, DC 20260-1000. Telephone (202) 268-4800.

David G. Hunter,
Secretary.

[FR Doc. 00-28413 Filed 11-1-00; 1:42 pm]

BILLING CODE 7710-12-M